DEPARTMENT OF THE INTERIOR

Geological Survey

[GX.23.ZQ00.G402A.00; OMB Control Number 1028-0048]

Agency Information Collection Activities: Did You Feel It? Earthquake Questionnaire

AGENCY: U.S. Geological Survey, Interior.

ACTION: Notice of Information Collection; request for comment.

SUMMARY: In accordance with the Paperwork Reduction Act of 1995 (PRA), the U.S. Geological Survey (USGS) is proposing to renew an information collection with revisions.

DATES: Interested persons are invited to submit comments on or before January 17, 2023.

ADDRESSES: Send your comments on this information collection request (ICR) by mail to U.S. Geological Survey, Information Collections Officer, 12201 Sunrise Valley Drive MS 159, Reston, VA 20192; or by email to gs-info_collections@usgs.gov. Please reference OMB Control Number 1028-0048 in the subject line of your comments.

FOR FURTHER INFORMATION CONTACT: To request additional information about this ICR, contact Sara McBride by email at skmcbride@usgs.gov or by telephone at 650-750-5270. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS is required to collect, evaluate, publish, and distribute information concerning earthquakes. Respondents have an opportunity to voluntarily supply information concerning the effects of shaking from an earthquake—on themselves, buildings, other man-made structures—as well as on ground effects such as faulting or landslides. Respondents' observations are interpreted in terms of numbers that measure the strength of shaking, and the resulting numbers are displayed on maps that are viewable from USGS earthquake websites. Observations are submitted via the Felt Report questionnaire accessed from the USGS “Did You Feel It?” (DYFI) earthquake web pages and may be submitted via computer or mobile phone. Respondents are asked to provide information on the location to which the report pertains. The locations may, at the respondent's option, be given imprecisely (city-name or postal Zip Code) or precisely (street address, geographic coordinates, or current location determined by the user's mobile phone). Low resolution maps of shaking based on both precise and imprecise observations are published for all earthquakes for which observations are submitted. For earthquakes felt by many respondents, the observations that are associated with more precise locations are used in the preparation of higher resolution maps of earthquake shaking.

Additional questions will be added to the DYFI survey, specifically for people who received an alert via the ShakeAlert System (the earthquake early-warning system for the West Coast of the U.S., managed by the USGS) or any earthquake early warning system globally so they can report their experiences to us quickly, in combination with their experiences of the earthquake itself from the DYFI form. This combined data set can tell us much about how the ShakeAlert system operates, when people receive alerts, how they receive them, and what they did once they received them. This is critical information for us to learn about the efficacy of earthquake early-warning systems and make improvements to the ShakeAlert system. Note that only people who receive alerts and indicate that they have will be able to answer the earthquake early-warning questions.

Title of Collection: Did You Feel It? Earthquake Questionnaire.

OMB Control Number: 1028-0048.

Form Number: None.

Type of Review: Revision of currently approved collection.

Respondents/Affected Public: individuals/households.

Total Estimated Number of Annual Respondents: 300,000.

Total Estimated Number of Annual Responses: 300,000.

Estimated Completion Time per Response: 8 minutes.

Total Estimated Number of Annual Burden Hours: 40,000.

Respondent's Obligation: Voluntary.

Frequency of Collection: On occasion, after an earthquake.

Total Estimated Annual Nonhour Burden Cost 0.

An agency may not conduct or sponsor, nor is a person required to respond to, a collection of information unless it displays a currently valid OMB control number.

The authority for this action is the PRA (44 U.S.C. 3501 et seq).

Shane Detweiler,
Assistant Earthquake Science Center Director, USGS.

[FR Doc. 2022-25005 Filed 11-16-22; 8:45 am]

BILLING CODE 4338-11-P